FEDERAL COMMUNICATIONS COMMISSION

[AU Docket No. 12-25; DA 12-187]

Mobility Fund Phase I Auction Updated List of Potentially Eligible Census Blocks

AGENCY: Federal Communications Commission.

ACTION: Notice.

SUMMARY: In this document, the Commission's Wireless Telecommunications and Wireline Competition Bureaus provide an updated list of potentially eligible census blocks for Auction 901 scheduled to commence on September 27, 2012, as well as other updated information consistent with the revised list.

DATES: Pursuant to the Auction 901 (Mobility Fund Phase I) Comment Public Notice, 77 FR 7152, February 10, 2012, comments are due on or before February 24, 2012. Reply comments are due on or before March 9, 2012.

ADDRESSES: Pursuant to the Auction 901 (Mobility Fund Phase I) Comment Public Notice, 77 FR 7152, February 10, 2012, all filings in response to the notice must refer to AU Docket No. 12-25. The Wireless Telecommunications and Wireline Competition Bureaus strongly encourage interested parties to file comments electronically, and request that an additional copy of all comments and reply comments be submitted electronically to the following address: auction901@fcc.gov. Comments may be submitted by any of the following methods:

Electronic Filers: Federal Communications Commission's Web Site: http://fjallfoss.fcc.gov/ecfs2/. Follow the instructions for submitting comments.

Paper Filers: Parties who choose to file by paper must file an original and one copy of each filing. Filings can be sent by hand or messenger delivery, by commercial overnight courier, or by first-class or overnight U.S. Postal Service mail. All filings must be addressed to the Commission's Secretary, Attn: WTB/ASAD, Office of the Secretary, Federal Communications Commission.

All hand-delivered or messenger-delivered paper filings for the Commission's Secretary must be delivered to FCC Headquarters at 445 12th St. SW., Room TW-A325, Washington, DC 20554. The filing hours are 8 a.m. to 7 p.m. Eastern Time. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington, DC 20554.

People with Disabilities: Contact the FCC to request reasonable accommodations (accessible format documents, sign language interpreters, CART, etc.) by email: FCC504@fcc.gov or phone: 202-418-0530 or TTY: 202-418-0432.

FOR FURTHER INFORMATION CONTACT: Wireless Telecommunications Bureau, Auctions and Spectrum Access Division: Lisa Stover at (717) 338-2868.

SUPPLEMENTARY INFORMATION: This is a summary of the Mobility Fund Phase I Auction Updated List of Potentially Eligible Census Blocks Public Notice (Public Notice) released on February 10, 2012. The Public Notice and related Commission documents may be purchased from the Commission's duplicating contractor, Best Copy and Printing, Inc. (BCPI), 445 12th Street SW., Room CY-B402, Washington, DC 20554, telephone 800-378-3160, or you may contact BCPI at its Web site: http://www.BCPIWEB.com. When ordering documents from BCPI, please provide the appropriate FCC document number, for example, DA 12-187 for this Public Notice. The Public Notice and related documents also are available on the Internet at the Commission's Web site: http://wireless.fcc.gov/auctions/901/ or by using the search function for AU Docket No. 12-25 on the Commission's Electronic Comment Filing System (ECFS) web page at http://www.fcc.gov/cgb/ecfs/.

1. The Wireless Telecommunications and Wireline Competition Bureaus (the Bureaus) announce the availability of an updated list, based on January 2012 American Roamer data, of census blocks potentially eligible for Mobility Fund Phase I support to be offered in Auction 901, as well as other updated information consistent with the revised list.

2. The Bureaus scheduled Auction 901 for September 27, 2012, and sought comment on procedures for the auction and certain program requirements in the Auction 901 (Mobility Fund Phase I) Comment Public Notice, 77 FR 7152, February 10, 2012. The Bureaus concluded that they would identify census blocks eligible for the Mobility Fund Phase I support to be offered in Auction 901 based on an analysis of the most recent available American Roamer data, from January 2012. The Bureaus described the methodology for identifying potentially eligible blocks and provided a preliminary list of such blocks based on their analysis of October 2011 American Roamer data, in electronic format as Attachment A files, as well as certain summary information (based on the same data) in Attachments A and B released with the Auction 901 Comment Public Notice. Further, the Bureaus stated that upon completion of their analysis of the January 2012 American Roamer data they would provide an updated list of potentially eligible census blocks and related updated information for Attachments A and B.

3. The Bureaus have finished that analysis and are now providing the updated information. The updated list of potentially eligible blocks based on January 2012 American Roamer data is available in electronic format only, as separate Attachment A files at http://wireless.fcc.gov/auctions/901/. For each potentially eligible block, individually identified by its Federal Information Processing Series (FIPS) code, these files provide the population and area of the block; the associated state, county, tract, and block group; any associated Tribe and Tribal land; and the number of road miles in each road mile category.

4. Attachment A to the Public Notice provides a summary of the updated list of potentially eligible census blocks based on January 2012 American Roamer data. For each state and territory, Attachment A provides the total number of potentially eligible census blocks (unserved census blocks with road miles), the total number of block groups with such blocks, the total number of tracts with such blocks, the total number of counties with such blocks, and the number of cellular market areas (CMAs) with such blocks. For each state and territory, Attachment A also provides the total population and area of the potentially eligible blocks, and the total number of road miles in each of the road mile categories. The Bureaus note that the U.S. Census Bureau has not yet released 2010 Census block-level data for American Samoa, the Commonwealth of the Northern Mariana Islands, and Guam. Consequently, the population of the unserved blocks in these territories is not provided in the Attachment A files.

5. As noted in the Auction 901 Comment Public Notice, for Auction 901, the Bureaus will use road miles from the Census Bureau's TIGER data for calculating the units in each eligible census block for purposes of comparing bids and measuring performance of Mobility Fund Phase I recipients. Attachment B of the Public Notice provides nine categories of roads in the TIGER data, their descriptions, and the total number of miles of each category in the potentially eligible census blocks on the updated list the Bureaus announce with the Public Notice. The information on TIGER road categories is from Appendix F—MAF/TIGER Feature Class Code (MTFCC) Definitions, pages F-186 and F-187 at http://www.census.gov/geo/www/tiger/tgrshp2010/documentation.html.

6. Concurrent with the release of the Public Notice, the Bureaus announce the availability of a map of the potentially eligible blocks on the updated list. The map is an interactive visual representation of data from the updated Attachment A files. The Attachment A files contain more information and generally more detail than is displayed on the map. The map is available at http://wireless.fcc.gov/auctions/901/ and at http://www.fcc.gov/maps/.

7. For additional information about Auction 901, including an overview of requirements to participate in the auction and proposals for auction procedures, you should consult the Auction 901 Comment Public Notice.

Federal Communications Commission.
Gary D. Michaels,
Deputy Chief, Auctions and Spectrum Access Division, WTB.

[FR Doc. 2012-3838 Filed 2-16-12; 8:45 am]

BILLING CODE 6712-01-P